DEPARTMENT OF TRANSPORTATION

Federal Aviation Administration

Membership in the National Parks Overflights Advisory Group Aviation Rulemaking Committee

ACTION: Notice.

SUMMARY: By Federal Register notices (See 73 FR 61447; October 16, 2008 and 73 FR 77102, December 18, 2008) the National Park Service (NPS) and the Federal Aviation Administration (FAA) invited interested persons to apply to fill a vacant position on the National Parks Overflights Advisory Group (NPOAG) Aviation Rulemaking Committee (ARC). This notice invited interested persons to apply to fill the vacancy representing Native American tribal concerns due to the incumbent member's completion of a three-year term appointment on April 2, 2009. This notice informs the public of the person selected to fill the vacancy on the NPOAG ARC.

FOR FURTHER INFORMATION CONTACT: Barry Brayer, Special Programs Staff, Federal Aviation Administration, Western-Pacific Region Headquarters, P.O. Box 92007, Los Angeles, CA 90009-2007, telephone: (310) 725-3800, e-mail: Barry.Brayer@faa.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests.

Current members of the NPOAG ARC are as follows: Randy Kenagy representing general aviation; Alan Stephen, Elling Halvorson, and Matthew Zuccaro representing commercial air tour operations; Chip Dennerlein, Greg Miller, Mark Peterson, and Don Barger representing environmental interests; and Rory Majenty and Richard Deertrack representing Native American tribes.

Selection

Selected to fill this vacancy, for an additional term, is returning member Rory Majenty. Mr. Majenty's term begins on April 3, 2009. The term of service for NPOAG ARC members is 3 years.

Issued in Hawthorne, CA on March 9, 2009.
Barry Brayer,
Manager, Special Progams Staff, Western-Pacific Region.

[FR Doc. E9-5667 Filed 3-27-09; 8:45 am]

BILLING CODE 4910-13-M